DEPARTMENT OF JUSTICE

Notice of Lodging of Proposed Consent Decree Under the Oil Pollution Act

On July 2, 2015, the Department of Justice lodged a proposed consent decree with the United States District Court for the Western District of Pennsylvania in a lawsuit entitled United States v. the Estate of Richard B. Herzog, Deceased, through Tim E. Herzog and Wesleah D. Blair as Co-executors of the Estate of Richard B. Herzog, Deceased, Civil Action No. 1:15-cv-162.

The proposed Consent Decree will resolve claims alleged under the Oil Pollution Act by the United States against the Estate of Richard B. Herzog through Tim E. Herzog and Wesleah D. Blair, as Co-executors of the Estate of Richard B. Herzog, for recovery of removal costs relating to discharges and substantial threat of discharges of oil from an abandoned oil production facility located within approximately 750 acres of land in Foster Township, McKean County, Pennsylvania which is colloquially known as the Johnston Farm leasehold (the “Facility”). Under the proposed Consent Decree, the Defendants will pay a total of $954,400 to the United States. The proposed Consent Decree is based on Defendants' limited ability to pay, as determined by a qualified financial analyst.

The publication of this notice opens a period for public comment on the proposed consent decree. Comments should be addressed to the Assistant Attorney General, Environment and Natural Resources Division, and should refer to United States v. the Estate of Richard B. Herzog, Deceased, through Tim E. Herzog and Wesleah D. Blair, as Co-executors of the Estate of Richard B. Herzog, Deceased, D.J. Reference No. 90-5-1-1-09646. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $29.5 (25 cents per page reproduction costs) payable to the United States Treasury. For a paper copy without the exhibits and signature pages, the cost is $9.00.

Robert Brook,
Assistant Section Chief, Environmental Enforcement Section, Environment & Natural Resources Division.

[FR Doc. 2015-16787 Filed 7-8-15; 8:45 am]

BILLING CODE 4410-15-P